DEPARTMENT OF THE INTERIOR

Bureau of Land Management

[ES-960-1420-BJ] ES-51423, Group 99, Michigan]

Notice of Filing of Plat of Survey; Michigan

The plat of the dependent resurvey of a portion of the south (4th correction line) and east boundaries, the west and north boundaries, and a portion of the subdivisional lines, Township 41 North, Range 19 West, and a portion of the south and west boundaries, Township 42 North, Range 18 West, and a portion of the south boundary, Township 42 North, Range 20 West, Michigan Meridian, Michigan, will be officially filed in Eastern States, Springfield, Virginia at 7:30 a.m., on April 2, 2002.

The survey was made at the request of the United States Forest Service.

All inquiries or protests concerning the technical aspects of the survey must be sent to the Chief Cadastral Surveyor, Eastern States, Bureau of Land Management, 7450 Boston Boulevard, Springfield, Virginia 22153, prior to 7:30 a.m., April 2, 2002.

Copies of the plat will be made available upon request and prepayment of the appropriate fee.

Dated: January 31, 2002.
Stephen D. Douglas,
Chief Cadastral Surveyor.

[FR Doc. 02-4665 Filed 2-26-02; 8:45 am]

BILLING CODE 4310-GJ-P